DEPARTMENT OF TRANSPORTATION

Federal Aviation Administration

14 CFR Part 71

[Docket No. FAA-2011-1334; Airspace Docket No. 11-ASO-43]

Amendment of Class E Airspace; Augusta, GA

AGENCY: Federal Aviation Administration (FAA), DOT.

ACTION: Final rule.

SUMMARY: This action amends Class E Airspace in Augusta, GA. The Bushe Non-Directional Beacon (NDB) and the Burke County NDB have been decommissioned and new Standard Instrument Approach Procedures have been developed at Augusta Regional Airport at Bush Field, Augusta, GA, and Burke County Airport, Waynesboro, GA, respectively. Airspace reconfiguration is necessary for the continued safety and management of instrument flight rules (IFR) operations within the Augusta, GA, airspace area. This action also updates the geographic coordinates of Burke County Airport.

DATES: Effective 0901 UTC, November 15, 2012. The Director of the Federal Register approves this incorporation by reference action under title 1, Code of Federal Regulations, part 51, subject to the annual revision of FAA Order 7400.9 and publication of conforming amendments.

FOR FURTHER INFORMATION CONTACT: John Fornito, Operations Support Group, Eastern Service Center, Federal Aviation Administration, P.O. Box 20636, Atlanta, Georgia 30320; telephone (404) 305-6364.

SUPPLEMENTARY INFORMATION:

History

On April 10, 2012, the FAA published in the Federal Register a notice of proposed rulemaking (NPRM) to amend Class E airspace in the Augusta, GA area (77 FR 21506). Interested parties were invited to participate in this rulemaking effort by submitting written comments on the proposal to the FAA. No comments were received. Subsequent to publication, the FAA found an error in the latitudinal coordinate for Burke County Airport and makes the correction in the rule. Except for editorial changes, and the change noted above, this rule is the same as published in the NPRM.

Class E airspace designations are published in paragraph 6005 of FAA Order 7400.9V dated August 9, 2011, and effective September 15, 2011, which is incorporated by reference in 14 CFR 71.1. The Class E airspace designations listed in this document will be published subsequently in the Order.

The Rule

This amendment to Title 14, Code of Federal Regulations (14 CFR) part 71 amends Class E airspace extending upward from 700 feet above the surface at Augusta, GA. Airspace reconfiguration is necessary due to the decommissioning of the Bushe NDB at Augusta Regional at Bush Field Airport, Augusta, GA, and the Burke County NDB at Burke County Airport, Waynesboro, GA, thereby cancelling the NDB approaches. This action ensures the continued safety and management of IFR operations within the Augusta, GA airspace area. This action also adjusts the latitude degree coordinate of the Burke County Airport from 32° to 33° to be in concert with the FAA's aeronautical database.

The FAA has determined that this regulation only involves an established body of technical regulations for which frequent and routine amendments are necessary to keep them operationally current, is non-controversial and unlikely to result in adverse or negative comments. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of airspace necessary to ensure the safety of aircraft and the efficient use of airspace. This regulation is within the scope of that authority as it amends controlled airspace in the Augusta, GA area.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g); 40103, 40113, 40120; E.O. 10854, 24 FR 9565; 3 CFR, 1959-1963; Comp., p. 389.

§ 71.1 [Amended]

2. The incorporation by reference in 14 CFR 71.1 of Federal Aviation Administration Order 7400.9V, Airspace Designations and Reporting Points, dated August 9, 2011, effective September 15, 2011, is amended as follows:

Paragraph 6005 Class E airspace areas extending upward from 700 feet or more above the surface of the earth.

* * * * *

ASO GA E5 Augusta, GA [Amended]

Augusta Regional at Bush Field Airport, GA

(Lat. 33°22′12″ N., long. 81°57′52″ W.)

Emory NDB

(Lat. 33°27′46″ N., long. 81°59′49″ W.)

Daniel Field

(Lat. 33°27′59″ N., long. 82°02′22″ W.)

Waynesboro, Burke County Airport, GA

(Lat. 33°02′29″ N., long. 82°00′10″ W.)

Millen Airport

(Lat. 32°53′37″ N., long. 81°57′55″ W.)

Millen NDB

(Lat. 32°53′41″ N., long. 81°58′01″ W.)

That airspace extending upward from 700 feet above the surface within an 8.6-mile radius of Augusta Regional at Bush Field Airport, and within 3.2 miles either side of the 168° bearing from the airport extending from the 8.6-mile radius to 12.5 miles south of the airport, and within a 7-mile radius of Daniel Field Airport, and within 8 miles west and 4 miles east of the 349° bearing from the Emory NDB extending from the 7-mile radius to 16 miles north of the Emory NDB, and within a 6.6-mile radius of Burke County Airport, and within a 7.3-mile radius of the Millen Airport, and within 4 miles east and 8 miles west of the 357° bearing from the Millen NDB extending from the 7.3-mile radius to 16 miles north of the airport.

Issued in College Park, Georgia, on August 16, 2012.
Barry A. Knight,
Manager, Operations Support Group, Eastern Service Center, Air Traffic Organization.

[FR Doc. 2012-20809 Filed 8-23-12; 8:45 am]

BILLING CODE 4910-13-P